DEPARTMENT OF THE INTERIOR

National Park Service

[NPS-WASO-NAGPRA-NPS0025565; PPWOCRADN0-PCU00RP14.R50000]

Notice of Inventory Completion: History Museum on the Square, Springfield, MO

AGENCY: National Park Service, Interior.

ACTION: Notice.

SUMMARY: The History Museum on the Square has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the History Museum on the Square. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the History Museum on the Square at the address in this notice by July 18, 2018.

ADDRESSES: Glenna Dement, History Museum on the Square, P.O. Box 2963, Springfield, MO 65801, telephone (417) 249-0025, email glenna@historymuseumonthesquare.org.

SUPPLEMENTARY INFORMATION: Notice is here given in accordance with the Native American Graves Protection and Repatriation Act (NAGPRA), 25 U.S.C. 3003, of the completion of an inventory of human remains and associated funerary objects under the control of the History Museum on the Square. The human remains and associated funerary objects were removed from the Moon Valley Cave, Dallas County, MO.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by professional staff from the History Museum on the Square in consultation with representatives of The Osage Nation (previously listed as the Osage Tribe).

History and description of the remains

At some time in the 1940s, human remains representing, at minimum, one individual were removed from a burial location known at that time as Moon Valley Cave in Dallas County, MO by Harrison Powell. The human remains were inventoried by Dr. Mike Conner, who worked for the Center for Archaeological Research at Southwest Missouri State University (today, Missouri State University). Based upon analyses of the teeth and epiphyseal union, Dr. Conner concluded that the human remains were that of a child between two and five years old. No known individual was identified. The 244 associated funerary objects include 1 biface fragment, 2 drill fragments, 23 bone fragments, 2 flakes, 39 projectile points, 168 pottery sherds, 1 bullet without a casing, 1 pipe bowl fragment, and 7 pieces of rock.

The human remains and associated funerary objects remained in Harrison Powell's collection until his death, whereupon the collection passed to his son, Clell Powell who, in turn, donated it to the History Museum on the Square at different dates between 1994 and 1996. Between 2006 and 2007, the human remains were sent to the Missouri Institute of Natural Science (MINS) to be chemically stabilized with Butvar-76, a polyvinyl butyral resin often used as an adhesive or coating agent by museums and curation facilities. Pottery sherds associated with the burial were identified by the Center for Archaeological Research as belonging to the Woodland period. Based on the archeological evidence, the human remains are believed to be Native American. Cultural affiliation of the human remains and associated funerary objects with The Osage Nation (previously listed as The Osage Tribe) has been determined based on geographical and historical information in addition to oral traditions and regional archeological evidence.

Determinations made by the History Museum on the Square

Officials of the History Museum on the Square have determined that:

• Pursuant to 25 U.S.C. 3001(9), the human remains described in this notice represent the physical remains of one individual of Native American ancestry.

• Pursuant to 25 U.S.C. 3001(3)(A), the 244 objects described in this notice are reasonably believed to have been placed with or near individual human remains at the time of death or later as part of the death rite or ceremony.

• Pursuant to 25 U.S.C. 3001(2), there is a relationship of shared group identity that can be reasonably traced between the Native American human remains and associated funerary objects and The Osage Nation (previously listed as the Osage Tribe).

Additional Requestors and Disposition

Lineal descendants or representatives of any Indian Tribe or Native Hawaiian organization not identified in this notice that wish to request transfer of control of these human remains and associated funerary objects should submit a written request with information in support of the request to Glenna Dement, History Museum on the Square, P.O. Box 2963, Springfield, MO 65801, telephone (417) 249-0025, email glenna@historymuseumonthesquare.org, by July 18, 2018. After that date, if no additional requestors have come forward, transfer of control of the human remains and associated funerary objects to The Osage Nation (previously listed as the Osage Tribe) may proceed.

The History Museum on the Square is responsible for notifying The Osage Nation (previously listed as the Osage Tribe) that this notice has been published.

Dated: May 9, 2018.
Melanie O'Brien,
Manager, National NAGPRA Program.

[FR Doc. 2018-13028 Filed 6-15-18; 8:45 am]

BILLING CODE 4312-52-P